DEPARTMENT OF THE INTERIOR

Bureau of Land Management

[LLWYL03000 L51010000.FX0000 LVRWK09K1030; WYW-167155]

Notice of Availability of the Final Environmental Impact Statement, Proposed Rawlins Resource Management Plan Amendment, and Segregation of Public Lands for the Chokecherry and Sierra Madre Wind Farm Project

AGENCY: Bureau of Land Management, Interior.

ACTION: Notice of availability.

SUMMARY: In accordance with the National Environmental Policy Act of 1969, as amended (NEPA), and the Federal Land Policy and Management Act of 1976, as amended, the Bureau of Land Management (BLM) has prepared a Proposed Rawlins Resource Management Plan (RMP) Amendment (Volume I) and Chokecherry and Sierra Madre (CCSM) Wind Energy Project (Volume II) Final Environmental Impact Statement (EIS), and by this notice is announcing its availability. This notice will also segregate 2,560 acres of public lands located within the CCSM right-of-way (ROW) application area from appropriation under the public land laws including the 1872 Mining Law, but not the Mineral Leasing or Mineral Material Acts, for a period of 2 years from the date of publication of this notice.

DATES: BLM planning regulations state that any person who meets the conditions as described in the regulations may protest the BLM's Proposed RMP Amendment/Final EIS. A person who meets the conditions and files a protest must file the protest within 30 days of the date that the Environmental Protection Agency publishes its notice in the Federal Register.

ADDRESSES: Copies of the Proposed RMP Amendment/Final EIS have been sent to affected Federal, State, and local government agencies and to other stakeholders. Copies of the Proposed RMP Amendment/Final EIS are available for public inspection at the BLM Rawlins Field Office, 1300 North Third Street, Rawlins, Wyoming; the BLM Rock Springs Field Office, 280 Highway 191 North, Rock Springs, Wyoming; and the BLM Wyoming State Office, 5353 Yellowstone Road, Cheyenne, Wyoming. The Proposed RMP Amendment/Final EIS is also available on the Internet at www.blm.gov/wy/st/en/info/NEPA/documents/rfo/Chokecherry.html.

All protests must be in writing and mailed to one of the following addresses:

Regular Mail: BLM Director (210), Attention: Brenda Williams, P.O. Box 71383, Washington, DC 20024-1383.

Overnight Mail: BLM Director (210), Attention: Brenda Williams, 20 M Street SE., Room 2134LM, Washington, DC 20003.

FOR FURTHER INFORMATION CONTACT: Pamela Murdock, Project Manager, telephone 307-775-6259; address 5353 Yellowstone Road, Cheyenne, WY 82007; email pmurdock@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM proposes to amend the 2008 Rawlins RMP for visual resources management (VRM) class designations (Final EIS Volume I). The Power Company of Wyoming, LLC (PCW) proposes to construct and operate a wind energy project south of Rawlins in Carbon County, Wyoming (Final EIS Volume II. The proposed project consists of two areas located approximately 9 miles apart within the Wind Site Testing and Monitoring Application Area—the Chokecherry site and the Sierra Madre site—totaling 227,638 acres of Federal, private and State lands. Only a portion of the total land area would be used for, or disturbed by, the project. The project proposal includes up to 1,000 wind turbine generators (WTG) and associated infrastructure, each turbine capable of producing 1.5 to 3 megawatts (MW) with a total nameplate capacity of 1,500 to 3,000 MW of electrical power.

On July 22, 2011 (76 FR 44039), the BLM segregated approximately 107,175 acres of public lands within the proposed project area. Through this notice, additional public lands within the CCSM project area would be segregated under the authority contained in 43 CFR 2091.3-1(e) and 43 CFR 2804.25(e) for a period of 2 years, in order to process the ROW application filed on the described lands; this 2-year segregation period will commence on July 3, 2012. It has been determined that this segregation is necessary for the orderly administration of the public lands.

The temporary segregation period will terminate and the lands will automatically re-open to appropriation under the public land laws, including the mining laws, if one of the following events occurs: (1) Upon the BLM's decision regarding whether to issue a ROW authorization for the wind energy generation proposal; (2) Upon publication in the Federal Register of a notice of termination of the segregation; or (3) Without further administrative action at the end of the segregation provided for in the Federal Register notice initiating the segregation, whichever occurs first. Any segregation made under this authority would be effective only for a period of up to 2 years, without the possibility of extension.

In accordance with 43 CFR 2091.3-1(e) and 2804.25(e), the following described public lands within the proposed project area are hereby segregated for a period of up to 2 years, subject to valid existing rights, from all forms of appropriation under the public land laws, including location and entry under the United States mining laws, but not from leasing under the mineral leasing laws or disposal under the mineral material laws:

Sixth Principal Meridian, Wyoming

T. 18 N., R. 85 W.,

Sec. 8.

T. 18 N., R. 86 W.,

Sec. 32, N½;

Sec. 35, N½.

T. 21 N., R. 87 W.,

Sec. 32;

Sec. 34.

The areas described aggregate 2,560 acres, according to the official plats of the surveys of the said lands, on file with the BLM.

The BLM Rawlins Field Office has been designated as the lead Federal agency for the Proposed RMP Amendment/Final EIS. Cooperating agencies include the U.S. Forest Service, the State of Wyoming, the Saratoga-Encampment-Rawlins Conservation District, the Little Snake River Conservation District, the Medicine Bow Conservation District, Carbon County, and the City of Rawlins.

The Draft RMP Amendment/Draft EIS was made available on July 22, 2011, for a 90-day public review and comment period. The Draft RMP Amendment/Draft EIS described and analyzed four VRM planning alternatives for the management of the public lands administered by the BLM Rawlins Field Office within the planning area, which includes and extends 30 miles beyond the CCSM project boundary, comprising approximately 3.6 million acres in Carbon County, south-central Wyoming. Within this area, the BLM administers approximately 1.3 million acres of public land surface and Federal mineral estate and an additional 100,000 acres of mineral estate under State and privately owned surface. The BLM decisions would apply only to public lands and to BLM-administered Federal mineral estate. Comments on the Draft RMP Amendment/Draft EIS received from the public and from internal BLM review were considered and incorporated as appropriate into the proposed plan amendment. Public comments resulted in the addition of clarifying text, but did not significantly change the proposed land use planning decisions.

Volume I of the Proposed RMP Amendment/Final EIS analyzes in detail four RMP Amendment alternatives:

Alternative 1 (No Action Alternative): Continue existing management direction;

Alternative 2: Provide for development and use opportunities while minimizing adverse impacts to visual resources;

Alternative 3: Provide for compatible development and use while maintaining focus on greater conservation of visual resources; and

Alternative 4 (BLM Preferred Alternative): Provide for development opportunities while protecting visual resources.

Volume II of the Proposed RMP Amendment/Final EIS analyzes the direct, indirect and cumulative environmental impacts of constructing and operating the CCSM wind generation facility (proposed action) and whether the application area is suitable for development of the proposed project or for an alternative development strategy. The impact analysis is based on resource-specific assumptions, estimated project disturbance, and appropriate project-specific stipulations. Alternatives to the proposed action were developed in response to issues and concerns raised during the NEPA scoping and comment periods. All alternatives conform to the preferred planning alternative identified in Volume I of the Proposed RMP Amendment/Final EIS. The BLM will identify requirements for future wind development in the area and decide whether the area identified in PCW's proposal would be acceptable for development of a wind farm.

Alternative 1 (No Action Alternative): Determine that the proposed project area is unsuitable for wind development, deny PCW's request to develop wind energy on public lands, and deny any request to provide access to private lands for wind development within the application area.

Alternative 1R (BLM Preferred Alternative with modifications): Determine that the application area is suitable for wind development and can accommodate up to 1,000 WTGs. This alternative, a revision of PCW's original proposed action, was submitted by the applicant in response to issues raised during scoping and developed in consideration of a comprehensive review of information pertaining to wildlife issues in the project area. This alternative would require amending the VRM decisions in the 2008 Rawlins RMP.

Alternative 2: Determine that the application area to the north of T. 18 N. is suitable for wind development and can accommodate up to 1,000 WTGs. This alternative would keep development primarily within the checkerboard land ownership pattern and was developed in response to concerns regarding visual impacts to areas with high recreational values. More restrictive Greater Sage-grouse stipulations would apply to public lands in this alternative compared to the other alternatives. This alternative would require amending the VRM decisions in the 2008 Rawlins RMP.

Alternative 3: Determine that the Chokecherry portion and the area from the eastern half of T. 18 N., R. 88. W. to the east of the Sierra Madre portion of PCW's application area is suitable for wind development and can accommodate up to 1,000 WTGs. All lands would be excluded to the south of T. 18. N. and the western half of T. 18. N., R. 88 W. This alternative was developed in response to concerns regarding existing VRM Class II areas as well as areas with wildlife concerns. This alternative would require amending the VRM decisions in the 2008 Rawlins RMP.

Alternative 4: No placement of WTGs on public lands within either the Chokecherry or Sierra Madre sites. Instead, the BLM would provide ROW grants to allow PCW to develop wind energy facilities on privately held lands. The BLM would apply required restrictions and timing stipulations to public lands for requested access points. This alternative was developed in response to overall concerns regarding developing a wind farm on public lands and the associated impacts. This alternative would not require amending the VRM decisions in the 2008 Rawlins RMP.

Volume II considered 12 additional alternatives but eliminated them from detailed study since they did not meet the purpose and need of the proposed action, or because they were incorporated into the alternatives analyzed in detail.

A recent inventory of wilderness characteristics determined that lands with wilderness characteristics are not present.

If the analysis results in the decision to approve wind energy development, PCW may submit up to four plans of development (POD) for separate aspects of the project including: Turbine siting in the Chokecherry development area, turbine siting in the Sierra Madre development area, haul-road development throughout the project area, and transmission lines. The site-specific PODs would be tiered to the analysis and decisions in the EIS and Record of Decision for the CCSM wind farm project. Site-specific impacts associated with the location of individual project components not analyzed in the EIS would be evaluated in subsequent NEPA analyses based on site-specific proposals within the boundary of the alternative selected in the ROD. ROW grants for these PODs, if issued, will include site-specific terms and conditions analyzed either in the POD NEPA documents or in the CCSM project EIS.

Instructions for filing a protest with the Director of the BLM regarding the Proposed RMP Amendment/Final EIS may be found in the “Dear Reader” Letter of the Proposed RMP Amendment/Final EIS and at 43 CFR 1610.5-2. Email and faxed protests will not be accepted as valid protests unless the protesting party also provides the original letter by either regular or overnight mail postmarked by the close of the protest period. Under these conditions, the BLM will consider the email or faxed protest as an advance copy and it will receive full consideration. If you wish to provide the BLM with such advance notification, please direct faxed protests to the attention of the BLM protest coordinator at 202-245-0028 or emails to Brenda_Hudgens-Williams@blm.gov.

All protests, including the follow-up letter to emails or faxes, must be in writing and mailed to the appropriate address, as set forth in the ADDRESSES section above.

Before including your phone number, email address, or other personal identifying information in your protest, you should be aware that your entire protest—including your personal identifying information—may be made publicly available at any time. While you may ask us in your protest to withhold your personal identifying information from public review, we cannot guarantee that we will be able to do so.

Authority: 40 CFR 1506.6, 40 CFR 1506.10, 43 CFR 1610.2; 43 CFR 1610.5.

Donald A. Simpson,
State Director, Wyoming.

[FR Doc. 2012-16160 Filed 7-2-12; 8:45 am]

BILLING CODE 4310-VC-P